DEPARTMENT OF JUSTICE

Antitrust Division

Notice Pursuant to the National Cooperative Research and Production Act of 1993—International Window Cleaning Association

Notice is hereby given that, on September 16, 2004, pursuant to section 6(a) of the National Cooperative Research and Production Act of 1993, 15 U.S.C. 4301 et seq. (“the Act”), International Window Cleaning Association (“IWCA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Window Cleaning Association, Alexandria, VA. The nature and scope of IWCA's standards development activities are: standards that focus on safety guidelines for the use of window cleaning access equipment and the manufacture, design and installation of window cleaning access equipment. T he IWCA develops standards through the IWCA I-14 Committee, which includes three categories of groups for whom standards are relevant: “Users” or window cleaners; “Producers” or manufacturers of equipment; and those with “General Interest,” or safety consultants, designers, regulatory officials, and associations of building and contracting officials.

Dorothy B. Fountain,
Deputy Director of Operations Antitrust Division.

[FR Doc. 05-138 Filed 1-4-05; 8:45 am]

BILLING CODE 4410-11-M